DEPARTMENT OF AGRICULTURE

Food Safety and Inspection Service

[Docket No. 05-030N]

Codex Alimentarius Commission: Meeting of the Codex Committee on Food Import and Export Inspection and Certification Systems

AGENCY: Office of the Under Secretary for Food Safety, USDA.

ACTION: Notice of public meeting and request for comments.

SUMMARY: The Office of the Under Secretary for Food Safety, United States Department of Agriculture (USDA), and the Food and Drug Administration (FDA), U.S. Department of Health and Human Services (HHS), are sponsoring a public meeting on November 10, 2005. The objective of the public meeting is to provide information and receive public comments on agenda items and draft U.S. positions that will be discussed at the 14th Session of the Codex Committee on Food Import and Export Inspection and Certification Systems (CCFICS) of the Codex Alimentarius Commission (Codex), which will be held in Melbourne, Australia, November 28-December 2, 2005. The Under Secretary for Food Safety and FDA recognize the importance of providing interested parties the opportunity to obtain background information on the 14th Session of CCFICS and to address items on the agenda.

DATES: The public meeting is scheduled for Thursday, November 10, 2005 from 1 p.m. to 4 p.m.

ADDRESSES: The public meeting will be held in Room 0161 of the South Agriculture Building, 1400 Independence Avenue, SW., Washington, DC (Smithsonian Metro stop). Documents related to the 14th Session of the CCFICS will be accessible via the World Wide Web at the following address: http://www.codexalimentarius.net/current.asp.

FSIS invites interested persons to submit comments on this notice. Comments may be submitted by any of the following methods:

• Mail, including floppy disks or CD-ROMs, and hand- or courier-delivered items: Send to the FSIS Docket Clerk, U.S. Department of Agriculture, Food Safety and Inspection Service, 300 12th Street, SW., Room 102, Cotton Annex, Washington, DC 20250. All comments received must include the Agency name and docket number 05-030N. All comments submitted in response to this notice, will be available for public inspection in the FSIS Docket Room at the address listed above between 8:30 a.m. and 4:30 p.m., Monday through Friday. The comments also will be posted on the Agency's Web site at http://www.fsis.usda.gov/regulations/2005_Notices_Index/.

FOR FURTHER INFORMATION CONTACT: About the 14th session of the CCFICS: Dr. Catherine Carnevale, Director, Office of Constituent Operations, Center for Food Safety and Applied Nutrition, FDA, 5100 Paint Branch Parkway (HFS-550), College Park, MD 20740, phone: (301) 436-2380, Fax: (301) 436-2618. E-mail: Catherine.Carnevale@cfsan.fda.gov. About the public meeting: Edith Kennard, Staff Officer, U.S. Codex Office, Food Safety and Inspection Service, Room 4861, South Building, 1400 Independence Avenue, SW., Washington, DC 20250, Phone: (202) 720-5261, Fax: (202) 720-3157, E-mail: edith.kennard@fsis.usda.gov.

SUPPLEMENTARY INFORMATION:

Background

Codex was established in 1962 by two United Nations organizations, the Food and Agriculture Organization (FAO) and the World Health Organization (WHO). Codex is the major international organization for encouraging fair international trade in food and protecting the health and economic interests of consumers. Through adoption of food standards, codes of practice, and other guidelines developed by its committees, and by promoting their adoption and implementation by governments, Codex seeks to ensure that the world's food supply is sound, wholesome, free from adulteration, and correctly labeled. In the United States, USDA, FDA, and the Environmental Protection Agency manage and carry out U.S. Codex.

The Codex Committee on Food Import and Export Inspection and Certification Systems was established to develop principles and guidelines for food import and export inspection and certification systems to facilitate trade through harmonization and to supply safe and quality foods to consumers. Included in the charge is application of measures by competent authorities to provide assurance that foods comply with essential requirements.

Issues To Be Discussed at the Public Meeting

The following items on the Agenda for the 14th Session of the Committee will be discussed during the public meeting:

• Proposed draft Appendices to the Guidelines on the Judgment of Equivalence of Sanitary Measures Associated with Food Inspection and Certification.

• Proposed draft Guidelines for Risk-based Inspection of Imported Foods

• Proposed draft Principles for the Application of Traceability/Product tracing in the context of Food Inspection and Certification Systems

• Proposed draft Revision of the Guidelines for Generic Official Certificate Formats and the Production and issuance of Certificates

• Discussion Paper on the Revision of the Guidelines for the Exchange of Information between Countries on Rejection of Imported Foods

• Discussion Paper on development of an Appendix on “Information relating to the need for technical assistance and cooperation between the importing countries to exporting countries” to the Codex Guidelines on the Judgment of Equivalence of Sanitary Measures Associated with Food Inspection and Certification

Members of the public may access or request copies of these documents at: http://www.codexalimentarius.net/current.asp

Public Meeting

At the November 10th public meeting, draft U.S. positions on the agenda items will be described, discussed, and attendees will have the opportunity to pose questions and offer comments. Written comments may be offered at the meeting or sent to the U.S. Delegate for the 14th session of the CCFICS, Dr. Catherine Carnevale (see FOR FURTHER INFORMATION CONTACT). Written comments should state that they relate to activities of the 14th Session of the CCFICS.

Additional Public Information

Public awareness of all segments of rulemaking and policy development is important. Consequently, in an effort to ensure that the public, and in particular minorities, women, and persons with disabilities are aware of this notice, FSIS will announce it on-line through the FSIS Web page located at http://www.fsis.usda.gov/regulations/2005_Notices_Index/.

FSIS also will make copies of this Federal Register publication available through the FSIS Constituent Update, which is used to provide information regarding FSIS policies, procedures, regulations, Federal Register notices, FSIS public meetings, recalls, and other types of information that could affect or would be of interest to our constituents and stakeholders. The update is communicated via Listserv, a free electronic mail subscription service for industry, trade, and farm groups, consumer interest groups, allied health professionals, scientific professionals, and other individuals who have requested to be included. The update also is available on the FSIS Web page. Through Listserv and the Web page, FSIS is able to provide information to a much broader, more diverse audience.

In addition, FSIS offers an electronic mail subscription service which provides an automatic and customized notification when popular pages are updated, including Federal Register publications and related documents. This service is available at http://www.fsis.usda.gov/news_and_events/email_subscription/ and allows FSIS customers to sign up for subscription options across eight categories. Options range from recalls to export information to regulations, directives, and notices.

Customers can add or delete subscriptions themselves and have the option to protect their accounts with passwords.

Done at Washington, DC, September 23, 2005.
F. Edward Scarbrough,
U.S. Manager for Codex Alimentarius.

[FR Doc. 05-19374 Filed 9-27-05; 8:45 am]

BILLING CODE 3410-DM-P